DEPARTMENT OF THE INTERIOR

National Park Service

Notice of Availability for the Record of Decision on the Final Environmental Impact Statement and General Management Plan, Pea Ridge National Military Park, AR

AGENCY: National Park Service, Department of the Interior.

SUMMARY: Pursuant to section 102(2)(C) of the National Environmental Policy Act of 1969, the National Park Service (NPS) announces the availability of the Record of Decision (ROD) on the final General Management Plan and Environmental Impact Statement (GMP/EIS), Pea Ridge National Military Park, Arkansas (Park). The NPS will implement the preferred alternative, Alternative 4, as described in the final GMP/EIS issued in August. The GMP sets forth a management philosophy for the Park and ensures the Park has a clearly defined direction for resource preservation and visitor use.

Under the selected action, visitors will have the opportunity to choose from the widest range of experiences available at the Park. Visitors will have opportunities to immerse themselves in Park resources associated with key battle areas and gain an understanding of the history of the Pea Ridge battle. Visitors will have many choices in the type, intensity, and duration of their experiences, guided by a variety of interpretive programs and media.

The preferred alternative (Alternative 4) best accomplishes protection of Park resources and maintenance of a wide range of quality visitor experiences. The preferred alternative will have positive impacts on the Park's natural resources related to the rehabilitation of the landscape to its 1862 appearance. The new management zones help ensure that visitors will have numerous and varied opportunities for understanding and appreciating the significance of the history of the Battle of Pea Ridge.

Four areas will be added to the Park under the selected action. The added lands will be feasible to administer by the NPS. There are no viable alternatives for adequate management and resource protection. The NPS will first consider alternate methods such as easements, right of way, or cooperative approaches that do not involve Federal acquisition of any interest in real property.

The ROD includes a statement of the decision made, synopses of other alternatives considered, the basis for the decision, the rationale for why the selected action is the environmentally preferred alternative, a finding of no impairment of site resources and values, and an overview of public involvement in the decisionmaking process.

FOR FURTHER INFORMATION CONTACT: Superintendent at Pea Ridge National Military Park, 15930 Highway 62, Garfield, Arkansas 72732. The document can be found on the World Wide Web at: http://parkplanning.nps.gov/.

Dated: September 5, 2006.
Ernest Quintana,
Regional Director, Midwest Region.

[FR Doc. E6-16688 Filed 10-6-06; 8:45 am]

BILLING CODE 4312-BX-P